DEPARTMENT OF HEALTH AND HUMAN SERVICES

Centers for Disease Control and Prevention

DEPARTMENT OF JUSTICE

Office of Justice Programs

[CDC-2013-0020; NIOSH-269]

Request for Information: Collection and Use of Nonfatal Workplace Violence Information from the National Crime Victimization Survey

AGENCY: The National Institute for Occupational Safety and Health (NIOSH) of the Centers for Disease Control and Prevention (CDC), Department of Health and Human Services (HHS) and the Bureau of Justice Statistics, Office of Justice Programs, U.S. Department of Justice.

ACTION: Request for public comments.

SUMMARY: The National Institute for Occupational Safety and Health (NIOSH) of the Centers for Disease Control and Prevention (CDC), Department of Health and Human Services (HHS) and the Bureau of Justice Statistics (BJS) of the Office of Justice Programs, Department of Justice (DOJ), are collaborating to request public comments to inform BJS's approach in collecting and reporting data related to nonfatal workplace violence in the National Crime Victimization Survey (NCVS). NIOSH and BJS request input on these issues. The instructions for submitting comments can be found at www.regulations.gov. Written comments submitted to the Docket will be used to inform BJS with the planning and collection of workplace violence data in the NCVS. Dates: Public Comment Period: Comments must be received by November 27, 2013 to be considered by BJS and NIOSH. Addresses: Written comments: You may submit comments by any of the following methods:

• Federal eRulemaking Portal: http://www.regulations.gov. Follow the instructions for submitting comments.

• Mail: NIOSH Docket Office, Robert A. Taft Laboratories, MS-C34, 4676 Columbia Parkway, Cincinnati, OH 45226.

• Instructions: All submissions received must include the agency name and docket number [CDC-2013-0020; NIOSH-269]. All relevant comments, including any personal information provided, will be posted without change to http://www.regulations.gov.

All information received in response to this notice will be available for public examination and copying at the NIOSH Docket Office, 4676 Columbia Parkway, Cincinnati, Ohio 45226.

I. Background

The National Institute for Occupational Safety and Health (NIOSH) is the federal agency responsible for conducting research to prevent workplace injuries and illnesses. Workplace violence is a common threat to worker safety and health, and NIOSH has a long history of conducting research on the prevalence, risk factors for, and prevention of work-related violence.

The U.S. Department of Justice, Office of Justice Programs, Bureau of Justice Statistics collects data on rape, sexual assault, robbery, aggravated assault, and simple assault against persons age 12 or older through the National Crime Victimization Survey (NCVS). The NCVS gathers data from a continuous, nationally representative sample of approximately 86,000 households comprising nearly 156,000 persons age 12 or older in the United States, reported and not reported to the police. The NCVS provides information about victims (e.g. age, gender, race, Hispanic origin, marital status, income, and educational level), offenders (e.g. gender, race, approximate age, and victim/offender relationship), and the nature of the crime (time and place of occurrence, use of weapons, nature of injury, and economic consequences).

NCVS respondents who report that they were a victim of a violent crime (rape, sexual assault, robbery, aggravated assault, or simple assault) while working or on duty are included in NCVS special reports on workplace violence. BJS published special reports on workplace violence in 1994, 1998 (covering 1992-96), 2001 (covering 1993-99), 2011 (covering 1993-2009) and 2013 (focused on government workers, 1994-2011). These reports are available on the BJS Web site as part of their violence in the workplace series at http://www.bjs.gov/index.cfm?ty=pbse&sid=56

All of the workplace violence special reports used the same classification system to determine work-relatedness of the incidents. To qualify as workplace violence the incident must have:

• Involved someone 16 years of age or older,

• Had the activity variable coded as “working”,

• Involved a violent crime,

• Involved a person who had a job or worked at a business the week preceding the survey or during the 6 months preceding the survey, and

• The event must have occurred within the United States.

Additionally, workplace violence to teachers commuting to and from work were included to make the data comparable to estimates presented in the Department of Education/BJS report, “Indicators of School Crime and Safety.” The NCVS is a nationally representative household survey so it excludes persons who are homeless, persons living in military barracks or stationed outside of the U.S., and those persons living in institutionalized group quarters, such as prisons, mental health facilities, and certain hospitals and assisted-living facilities. In 2002, NIOSH and BJS conducted The Workplace Risk Supplement to the NCVS, which was administered to employed respondents who were 16 years or older in all households selected for the NCVS during the 6-month reference period from January through June 2002. This supplement used the same classification system described for the special reports.

II. Purpose of Request for Comments

NIOSH and BJS are collaborating to improve and enhance the collection of nonfatal workplace violence data through the NCVS. This is part of a larger BJS effort to re-design and increase the utility of nonfatal violence data collected through the NCVS.

NIOSH and BJS are seeking input on: (1) Methods to identify work-related violence using the existing variable structure within the NCVS, and (2) other suggested enhancements to improve the ability of the NCVS to describe the prevalence, patterns, and trends in workplace violence. Responses to this request for information will be considered by BJS in: (1) The re-design of the NCVS, (2) an on-line NVCS reporting tool, and (3) future BJS workplace violence reports. NIOSH and BJS also anticipate utilizing this information in a jointly issued technical report on methodological issues with identifying and reporting on nonfatal workplace violence through the NCVS.

III. Identifying Workplace Violence in the NCVS

NIOSH defines workplace violence as “violent acts, including physical assaults and threats of assault, directed toward persons at work or on duty.” The Occupational Safety and Health Administration (OSHA) defines workplace violence as any act or threat of physical violence, harassment, intimidation, or other threatening disruptive behavior that occurs at the work site. These are broad definitions and most data collection systems will not capture all incidents of workplace violence. For example, data on workplace violence collected through the NIOSH/Consumer Product Safety Commission, National Electronic Injury Surveillance System- Work Supplement (NEISS-Work), which is collected from a nationally representative sample of hospital emergency departments, is more likely to capture workplace violence that results in physical injuries than other forms that do not result in injury such as threats, harassment and intimidation, http://www2a.cdc.gov/risqs/wrtechinfo.htm.

Additionally, the NIOSH and OSHA definitions are restricted to incidents that occur at work and do not encompass violence that may have a work-association but not have occurred at work, such as violence associated with commuting to and from a workplace. BJS and NIOSH plan to address these issues and the implications for assessing trends in workplace violence using the NCVS and other data sources in the anticipated jointly-issued technical report on workplace violence methodological issues in the NCVS.

Determining work-relatedness of the violent incidents recorded by the NCVS is not straightforward. Many factors influence the decision to include the case as a workplace violence incident. The work-related variables that are currently collected in the NCVS appear below. Any combination of these variables is possible. Immediately below the variable list are alternatives for variable combinations that are currently being used or considered in determining work-relatedness in the NCVS. There are advantages and disadvantages to different methods, including the ability to assess trends using historical data and being more inclusive or exclusive in identifying work associations.

Input is requested regarding the best combination of variables to determine work-relatedness of the violent incident. In particular, what would be your first and second choices for a combination of variables to identify work-related violence and why?

NCVS crime incident report instrument: http://www.bjs.gov/index.cfm?ty=dcdetail&iid=245#Questionnaires

IV. Currently Collected Variables in the NCVS That May Be Considered to Establish Work-relatedness

Household-level Variables

1. Does anyone in this household operate a business from this address?

2. Is there a sign on the premises or some other indication to the general public that a business is operated from this address?

Person-level Variables

3. Did you have a job or work at a business last week?

4. Did you have a job or work at a business during the last 6 months?

5. Did that (job/work) last 2 consecutive weeks or more?

6. Which of the following best describes your job?

Medical Profession

• Physician

• Nurse

• Technician

• Other

Mental Health Services Field

• Professional (Social worker/Psychiatrist)

• Custodial care

• Other

Teaching Profession

• Preschool

• Elementary

• Junior high or middle school

• High school

• College or university

Technical or Industrial School

• Special education facility

• Other

Law Enforcement Security Field

• Law enforcement officer

• Correctional officer

• Security guard

• Other

Retail Sales

• Convenience or liquor store clerk

• Gas station attendant

• Bartender

• Other

Transportation Field

• Bus driver

• Taxi cab driver

• Other

Something Else

7. Is your job with a private company, federal government, state, county, or local government, or yourself?

8. While working at your job, do you work mostly in city, suburb, or rural area or combination of these?

9. Are you employed by a college or university?

Incident-Level Variables

10. Was the victim injured? How (Type of injury)?

11. What were you doing when this incident (happened/started)?

• Working or on duty

• On the way to or from work

• On the way to or from school

• On the way to or from other place

• Shopping, errands

• Attending school

• Leisure activity away from home

• Sleeping

• Other activities at home

• Other

12. Were you employed at the time of the incident?

13. What was the type of work performed at the time of the incident?

14. Is this business incorporated?

15. What was the business type?

16. What was the type of industry at the time of the incident?

17. Collapsed industry code.

18. Collapsed occupation code.

19. While working at this job, did you work mostly in a city, suburb, rural area, or combination of any of these?

20. Did this incident happen at your work site?

21. Did you usually work days or nights?

22. Is this your current job?

23. Did you lose time from work because of the injuries you suffered in this incident?

24. How many days did you lose because of injuries?

25. Did you lose any pay that was not covered by unemployment insurance, sick leave or some other source?

26. About how much pay did you lose?

27. Did you lose any (other) time from work because of this incident for such things as cooperating with a police investigation, testifying in court, or repairing or replacing damaged or stolen property?

28. How much time did you lose altogether because of cooperating with a police investigation, testifying in court, or repairing or replacing damaged or stolen property?

29. During these days, did you lose any pay that was not covered by unemployment insurance, paid leave, or some other source?

30. About how much pay did you lose?

31. Were there any (other) household members 16 years or older who lost time from work because of this incident?

32. How much time did they lose altogether?

Alternatives for determining work-relatedness

Variable alternatives currently used or under consideration and some advantages and disadvantages are:

Alternative I: Current Coding Scheme Used by the BJS:

• Age 16 (victims age 16 or older),

• Had a job or worked at a business last week or during the last 6 months,

• Excludes outside of U.S.

• Activity at time of incident—working,

• Violent crime

Advantages—can be used to generate rates of workplace violence by occupation and other aspects, facilitates trend analyses with earlier data, relatively consistent with NIOSH and OSHA definitions of workplace violence (with exception of non-robbery threats of violence, harassment and intimidation which are not included in the NCVS definition of a violent crime and the inclusion of commuting injuries for teachers)

Disadvantages—calculations of rates of workplace violence by occupation may not be as accurate because job at the time of incident may be different from current job. The percentage of workplace violence that occurred in which the job at the time of the incident was different from the job at the time of the NCVS interview increased from 44% in 2007 to about 56% in 2011.

Alternative II

• Age 16 or older,

• Had a job or worked at a business last week or during the last 6 months,

• Job at time of incident was the same as job mentioned at beginning of NCVS interview,

• Excludes outside of U.S.,

• Activity at time of incident-working,

• Violent crime.

Advantages—relatively consistent with NIOSH and OSHA definitions of workplace violence, allows for a more accurate calculation of rates of workplace violence by occupation than what is done currently (everyone has the same job for the numerator and denominator).

Disadvantages—persons that experienced workplace violence at a time where their job does not match their job at the NCVS interview are excluded. As mentioned above, the percentage of workplace violence in which the job at the time of the incident was different from the job at the time of the NCVS interview has increased in recent years from 44% in 2007 to about 56% in 2011. These cases would be excluded from estimates of workplace violence by using Alternative II.

Alternative III

• Age 16 or older,

• Excludes outside of U.S.,

• Activity at time of incident-working,

• Violent crime

Advantages—relatively consistent with NIOSH and OSHA definitions.

Disadvantages—calculations of rates of workplace violence by occupation may not be as accurate because job at the time of incident may be different from current job.

Alternative IV

• Age 16 or older,

• Had a job or worked at a business last week or during the last 6 months,

• Excludes outside of U.S.,

• Activity at time of incident-working or on the way to/from work,

• Violent crime

Advantages—includes violence committed on the way to and from work as well as while working.

Disadvantages—calculations of rates of workplace violence by occupation may not be as accurate because job at the time of incident may be different from current job. Inconsistent with NIOSH and OSHA definitions of workplace violence which exclude violence during the commute to or from work.

Alternative V

• Age 16 or older,

• Excludes outside of U.S.,

• Activity at time of incident- working,

• Employed at the time of the incident,

• Violent crime.

Advantages—know for certain the victim was employed at the time of the incident, relatively consistent with NIOSH and OSHA definitions.

Disadvantages—calculations of rates of workplace violence by occupation may not be as accurate because job at the time of incident may be different from current job.

Alternative VI

• Age 16 or older,

• Excludes outside of U.S.,

• incident happened at your worksite,

• violent crime.

Advantages—know for certain where the crime took place.

Disadvantages—excludes workplace violence that occurs while a person is on duty away from the worksite and thus inconsistent with NIOSH and OSHA definitions of workplace violence.

V. The second item for which we are requesting input is any other suggested enhancements to improve the ability of the NCVS to report on workplace violence. Two enhancements that are currently being explored by BJS and NIOSH are: (1) The ability to report NCVS data by a workplace violence typology used by NIOSH and public health researchers (Type I—Criminal Intent, Type II—Customer/client, Type III—Worker-on-Worker, and Type IV Intimate Partner Violence [detail available at http://www.public-health.uiowa.edu/iprc/resources/workplace-violence-report.pdf]), and (2) revisions to the categories of occupations that are used in reports. One of the factors that will need to be considered with respect to occupation categories is the NCVS sample size and the ability to reliably report on specific occupations.

In a recent review of the NCVS data collection instrument, there were a number of potential limitations that were identified. These include, but are not limited to:

1. The victim-offender relationship variable is first conditioned on whether the victim knows the perpetrator or not. This complicates the use of such relationships as “customer/client or patient.” A worker who was assaulted by a customer who was also a stranger would be skipped out of the victim-offender relationship variable. Only customers that were considered casual acquaintances or well known to the victim would be filtered into the specific relationship coding. So it is possible that many offenders who were customers or clients end up in the stranger coding.

2. Currently, NCVS collects limited occupation types (see section IV, #6). These categories are primarily considered high-risk occupations for certain victimization types. The categories do not reflect changes in the workforce since 1990. Input is requested regarding potential enhancements to the collection and reporting of nonfatal workplace violence in the NCVS. In particular, do you think it would be useful for BJS to include the public health typology of workplace violence in future workplace violence reports and in the on-line NCVS reporting tool? Do you have suggestions for reporting on specific occupation or occupation groups and/or methods to address limitations regarding the NCVS sample size? Do you have suggestions for addressing the potential limitations identified in the survey, such as issues with the relationship variable?

FOR FURTHER INFORMATION CONTACT: Dr. Daniel Hartley, 1095 Willowdale Road, Morgantown, West Virginia 26505, telephone (304) 285-5812. Email: DHartley@cdc.gov.

Dated: August 20, 2013.
John Howard,
Director, National Institute for Occupational Safety and Health, Centers for Disease Control and Prevention.
Dated: August 26, 2013.
William Sabol,
Acting Director, Bureau of Justice Statistics.

[FR Doc. 2013-21441 Filed 9-3-13; 8:45 am]

BILLING CODE 4163-19-P